DEPARTMENT OF DEFENSE

Department of the Air Force

Proposed Collection; Common Request

AGENCY: Department of the Air Force.

ACTION: Notice.

In compliance with section 3506(c)(2)(A) of the Paperwork Reduction Act of 1995, the Headquarters Air Force Services Agency (HQ AFSVA) announces a continuation of use to the existing Air Force Form (AF) 3211, Customer Comment Card and seeks public comment of the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 6, 2004.

ADDRESSES: Written comments and recommendations on the proposed information collection should be sent to HQ AFSVA/SVOHL, Lodging Branch, 10100 Reunion Place, Suite 401, San Antonio, TX 78216-4138, ATTN: TSgt Pamela D. Cook

FOR FURTHER INFORMATION CONTACT: To request more information on this proposed information collection or to obtain a copy of the proposal and associated collection instruments, please write to the above address or call HQ AFSVA/SVOHL at (210) 652-8875 or by fax at (210) 652-7041.

Title, Form Number, and OMB Number: Customer Comments, AF Form 3211, OMB Number 0701-0146.

Needs and Uses: Each guest of Air Force Lodging and its contract lodging operations are provided access to AF Form 3211. The AF Form 3211 gives each guest the opportunity to comment on facilities and services received. Completion and return of the form is optional. The information collection requirement is necessary for Wing leadership to assess the effectiveness of their Lodging program.

Affected Public: AFI 34-246, Air Force Lodging Program, specifies who is an authorized guest in Air Force Lodging. Some examples of the public include construction contractors and special guests of the Installation Commander.

Annual Burden: 16.67.

Number of Respondents: 200.

Responses per Respondent: 1.

Average Burden per Response: 5 minutes.

Frequency: On occasion.

SUPPLEMENTARY INFORMATION: Respondents are authorized guests of Air Force Lodging. The AF Forms 3211 can be used for assessing background documentation/supporting material for all types of management decisions. Higher headquarters also reviews them during lodging assistance and Innkeeper Award competitions.

Pamela Fitzgerald,
Air Force Federal Register Liaison Officer.

[FR Doc. 04-16803 Filed 7-22-04; 8:45 am]

BILLING CODE 5001-05-P